DEPARTMENT OF COMMERCE

National Oceanic and Atmospheric Administration

[I.D. 042204F]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow two commercial fishing vessels to conduct fishing operations that are otherwise restricted by the regulations governing the fisheries of the Northeastern United States. The EFP would allow for exemptions from the FMP as follows: The GOM Rolling Closure Areas; the Days-at-Sea (DAS) notification requirements; and the effort-control program (DAS).

Regulations under the Magnuson-Stevens Fishery Conservation and Management Act require publication of this notification to provide interested parties the opportunity to comment on applications for proposed EFPs.

DATES: Comments on this document must be received on or before May 14, 2004.

ADDRESSES: Comments on this notice may be submitted by e-mail. The mailbox address for providing e-mail comments is DA498@noaa.gov. Include in the subject line of the e-mail comment the following document identifier: “Comments on Manomet Rigid-Mesh Panel Gear Study.” Written comments should be sent to Patricia A. Kurkul, Regional Administrator, NMFS, Northeast Regional Office, 1 Blackburn Drive, Gloucester, MA 01930. Mark the outside of the envelope “Comments on Manomet Rigid-Mesh Panel Gear Study.” Comments may also be sent via facsimile (fax) to (978) 281-9135.

FOR FURTHER INFORMATION CONTACT: Brian Hooker, Fishery Management Specialist, phone 978-281-9220.

SUPPLEMENTARY INFORMATION: The Manomet Center for Conservation Sciences (Manomet) submitted an application for an EFP on April 2, 2004. Information completing the application was received on April 14, 2004. The proposed project, “Development and Testing of a Novel ‘Rigid-Mesh’ Bycatch Reduction Device for the Gulf of Maine Groundfish Fisheries,” is the second year of the project funded by the Northeast Consortium.

The main purpose of the project is to test a fishing gear net modification that utilizes a panel of rigid mesh inserted between the extension and codend of a conventional otter trawl. The researchers seek to assess the applicability of the rigid mesh panel in the GOM NE multispecies fishery towards reducing regulatory discard. The proposed panel would be 2 meters (6.5 ft) in length and entirely constructed of elongate meshes 60 mm (2.36 in) by 200 mm (7.87 in) long and would be inserted along the net between the extension and a conventional 16.5-cm (6.5-inch) diamond mesh codend. The panel would extend around the entire circumference of the net. The net would be filmed inside and outside to verify proper construction and document fish behavior. The experimental design for the project calls for towing the experimental net and the conventional net in alternate tows (A-B-B-A pattern). No more than a total of 40 tows would be performed during the fishing trials.

The main species that would expected to be caught under this EFP are: 45.40 kg (100 lb) of yellowtail flounder; 9 kg (20 lb) of winter flounder; 45.40 kg (100 lb) of summer flounder; 45.40 kg (100 lb) of American plaice; 138 kg (305 lb) of cod; 11 kg (25 lb) of haddock; 490 kg (1,080 lb) of skates; 166 kg (365 lb) of spiny dogfish; and 1,601 kg (3,530 lb) of monkfish. These estimates are based, in part, upon two days of testing which occurred in 2003. There will be no retention of undersized fish onboard the vessels. The project would take place between June 1-July 31, 2004. The study would occur in two areas: Area 1 is off the Maine coast in 30-minute squares 138, 139, 140, 146, and 147; and Area 2 is off of Cape Cod in 30-minute squares 123 and 124. At no time is fishing to occur inside year-round closure areas. Exemption from 10 DAS, 5 per vessel, is requested to conduct the experiment. DAS exemptions are requested as a commercial DAS level of effort would not likely be realized and profit from the sale of fish would be used to offset research costs associated with data analysis, report production, travel, and leasing the vessels.

This EFP would allow for exemptions from the Northeast (NE) Multispecies Fishery Management Plan (FMP) as follows: The GOM Rolling Closure Areas specified at 50 CFR 648.81(g)(1)(i)-(v); the Days-at-Sea (DAS) notification requirements specified at § 648.10; and the effort-control program (DAS) as specified at § 648.82(a).

Authority: 16 U.S.C. 1801 et seq.

Dated: April 23, 2004.
Alan D. Risenhoover,
Acting Director, Office of Sustainable Fisheries, National Marine Fisheries Service.

[FR Doc. E4-956 Filed 4-28-04; 8:45 am]

BILLING CODE 3510-22-S